DEPARTMENT OF COMMERCE

National Oceanic and Atmospheric Administration

50 CFR Part 665

RIN 0648-BF37

Mariana Archipelago Fisheries; Remove the CNMI Medium and Large Vessel Bottomfish Prohibited Areas

AGENCY: National Marine Fisheries Service (NMFS), National Oceanic and Atmospheric Administration (NOAA), Commerce.

ACTION: Notice of availability of fishery ecosystem plan amendment; request for comments.

SUMMARY: NMFS announces that the Western Pacific Fishery Management Council (Council) proposes to amend the Fishery Ecosystem Plan for the Mariana Archipelago. If approved, Amendment 4 would remove the medium and large vessel bottomfish (BF) prohibited fishing areas in the Commonwealth of the Northern Mariana Islands (CNMI). Amendment 4 considers the best available scientific, commercial, and other information about the fisheries, and supports the long-term sustainability of fishery resources.

DATES: NMFS must receive comments on the proposed amendment by July 25, 2016.

ADDRESSES: You may submit comments on this document, identified by NOAA-NMFS-2015-0115, by either of the following methods:

• Electronic Submission: Submit all electronic public comments via the Federal e-Rulemaking Portal. Go to www.regulations.gov/#!docketDetail;D=NOAA-NMFS-2015-0115, click the “Comment Now!” icon, complete the required fields, and enter or attach your comments.

• Mail: Send written comments to Michael D. Tosatto, Regional Administrator, NMFS Pacific Islands Region (PIR), 1845 Wasp Blvd. Bldg. 176, Honolulu, HI 96818.

Instructions: NMFS may not consider comments sent by any other method, to any other address or individual, or received after the end of the comment period. All comments received are a part of the public record, and NMFS will generally post them for public viewing on www.regulations.gov without change. All personal identifying information (e.g., name, address, etc.), confidential business information, or otherwise sensitive information submitted voluntarily by the sender will be publicly accessible. NMFS will accept anonymous comments (enter “N/A” in the required fields if you wish to remain anonymous).

The Council prepared Amendment 4, including an environmental assessment and regulatory impact review, that provides background information on the proposed action. The amendment is available from www.regulations.gov or the Council, 1164 Bishop St., Suite 1400, Honolulu, HI 96813, tel 808-522-8220, fax 808-522-8226, www.wpcouncil.org.

FOR FURTHER INFORMATION CONTACT: Sarah Ellgen, Sustainable Fisheries Division, NMFS PIR, 808-725-5173.

SUPPLEMENTARY INFORMATION: The Council and NMFS manage the bottomfish fishery in federal waters in the CNMI under the Fishery Ecosystem Plan for the Mariana Archipelago (Mariana FEP). The Mariana FEP and implementing Federal regulations currently prohibit medium and large vessels (vessels over 40 ft) from fishing for bottomfish in certain Federal waters around the CNMI. The prohibited areas include waters within approximately 50 nautical miles (nm) of the Southern Islands (i.e., Rota, Aquijan, Tinian, Saipan and Farallon de Medenilla) and within 10 nm of Alamagan Island.

The Council established the prohibited areas in 2008 in response to concerns expressed by CNMI fishermen that Guam bottomfish fishermen would travel to fish in CNMI waters after establishment of the large vessel prohibited fishing area in Guam. CNMI fishermen were concerned that such additional fishing by the vessels from Guam would create localized depletion of bottomfish, gear conflicts, and catch competition.

The CNMI bottomfish fishery has changed since 2008, and the conditions that led the Council and NMFS to establish the prohibited areas are no longer present. Large vessels from Guam have not shown interest in fishing for CNMI bottomfish. The prohibited areas may also be negatively impacting the CNMI bottomfish fishery. Only a few small vessels have been operating on a regular basis, and the few medium and large vessels have faced declining participation, possibly as a result of higher fuel costs that prevent them from traveling beyond the prohibited areas. The CNMI bottomfish fishery may not be achieving optimum yield, and the prohibited areas may be contributing to the potential under-utilization of the bottomfish resource in CNMI.

To address fishery conditions resulting from the BF prohibited areas, the Council recommended that NMFS remove them. The Council and NMFS would continue to manage the fishery under a suite of management requirements that include the specification of annual catch limits and accountability measures, post-season review of catches and effort including against ACLs, requirements for vessel markings, federal catch and sales reporting, and the vessel monitoring system. The fishing requirements for the Marianas Trench Marine National Monument would also remain unchanged.

Amendment 4 is intended to improve the efficiency and economic viability of the CNMI bottomfish fishery. The Council and NMFS will annually review the effects of the proposed amendment. Any future changes would be subject to additional environmental review and opportunity for public review and comment.

NMFS must receive comments on Amendment 4 by the date provided in the DATES section to be considered by NMFS in the decision to approve, partially approve, or disapprove the amendment. NMFS soon expects to publish and request public comment on a proposed rule that would implement the measures recommended in Amendment 4.

Authority: 16 U.S.C. 1801 et seq.

Dated: May 20, 2016.
Emily H. Menashes,
Acting Director, Office of Sustainable Fisheries, National Marine Fisheries Service.

[FR Doc. 2016-12347 Filed 5-24-16; 8:45 am]

BILLING CODE 3510-22-P